DEPARTMENT OF HEALTH AND HUMAN SERVICES

National Institutes of Health

National Institute of Nursing Research; Notice of Closed Meetings

Pursuant to section 10(d) of the Federal Advisory Committee Act, as amended (5 U.S.C. App.), notice is hereby given of the following meetings.

The meetings will be closed to the public in accordance with the provisions set forth in sections 552b(c) (4) and 552b(c) (6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Initial Review Group.

Date: February 24-25, 2014.

Time: 8:00 a.m. to 12:00 p.m.

Agenda: To review and evaluate grant applications.

Place: Hyatt Regency Bethesda, One Bethesda Metro Center, 7400 Wisconsin Avenue, Bethesda, MD 20814.

Contact Person: Weiqun Li, MD, Scientific Review Officer, National Institute of Nursing Research, National Institutes of Health, 6701 Democracy Blvd. Suite 710, Bethesda, MD 20892, (301) 594-5966, wli@mail.nih.gov.

Name of Committee: National Institute of Nursing Research Special Emphasis Panel; Effective Palliative/End of Life Care Interventions.

Date: February 28, 2014.

Time: 8:00 a.m. to 3:00 p.m.

Agenda: To review and evaluate grant applications.

Place: National Institutes of Health, One Democracy Plaza, Suite 703, 6701 Democracy Boulevard Bethesda, MD 20892 (Telephone Conference Call).

Contact Person: Mario Rinaudo, MD Scientific Review Officer Office of Review, National Institute of Nursing Research, National Institutes of Health, 6701 Democracy Blvd. (DEM 1), Suite 703, Bethesda, MD 20892, 301-594-5973, mrinaudo@mail.nih.gov.

(Catalogue of Federal Domestic Assistance Program Nos. 93.361, Nursing Research, National Institutes of Health, HHS).

Dated: January 23, 2014.
Michelle Trout,
Program Analyst, Office of Federal Advisory Committee Policy.

[FR Doc. 2014-01631 Filed 1-28-14; 8:45 am]

BILLING CODE 4140-01-P